DEPARTMENT OF JUSTICE

Drug Enforcement Administration

[Docket No. DEA-721]

Bulk Manufacturer of Controlled Substances Application: Nalas Engineering Services, Inc.

AGENCY: Drug Enforcement Administration, Justice.

ACTION: Notice of application.

SUMMARY: Nalas Engineering Services, Inc. has applied to be registered as a bulk manufacturer of basic class(es) of controlled substance(s). Refer to Supplemental Information listed below for further drug information.

DATES: Registered bulk manufacturers of the affected basic class(es), and applicants therefore, may file written comments on or objections to the issuance of the proposed registration on or before November 17, 2020. Such persons may also file a written request for a hearing on the application on or before November 17, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on August 13, 2020, Nalas Engineering Services, Inc., 85 Westbrook Road, Centerbrook, Connecticut 06409, applied to be registered as an bulk manufacturer of the following basic class(es) of controlled substance(s):

Controlled substance | Drug code | Schedule
Thebaine | 9333 | II

The company plans to manufacture derviates of the above controlled substance for distribution for its customers.

William T. McDermott,
Assistant Administrator.

[FR Doc. 2020-20597 Filed 9-17-20; 8:45 am]

BILLING CODE P